DEPARTMENT OF HEALTH AND HUMAN SERVICES

Centers for Medicare & Medicaid Services

[CMS-1360-CN]

RIN 0938-AM82

Medicare Program; Inpatient Rehabilitation Facility Prospective Payment System for Fiscal Year 2005; Correction

AGENCY: Centers for Medicare & Medicaid Services (CMS), HHS.

ACTION: Notice; correction.

SUMMARY: This document corrects technical errors that appeared in the Federal Register notice on July 30, 2004, entitled “Medicare Program; Inpatient Rehabilitation Facility Prospective Payment System for Fiscal Year 2005.” That notice updated prospective payment rates for inpatient rehabilitation facilities for Federal fiscal year 2005 as authorized under section 1886(j)(3)(C) of the Social Security Act (the Act). In addition, section 1886(j)(5) of the Act requires the Secretary to publish in the Federal Register, on or before August 1 before each fiscal year, the classifications and weighting factors for the inpatient rehabilitation facility case mix groups and a description of the methodology and data used in computing the prospective payment rates for that fiscal year.

DATES: Effective for discharges occurring on or after October 1, 2004, and on or before September 30, 2005.

FOR FURTHER INFORMATION CONTACT: August Nemec, (410) 786-0612; or Jeannette Kranacs, (410) 786-9385.

SUPPLEMENTARY INFORMATION:

I. Background

In CMS-1360-N, FR Doc. 04-17444 of July 30, 2004 (69 FR 45721), there were three technical errors that are identified and corrected in the Correction of Errors section below. The provisions in this correction notice are effective as if they had been included in the document published July 30, 2004. Accordingly, the corrections are effective for discharges occurring on or after October 1, 2004, and on or before September 30, 2005.

We recently determined that several technical errors occurred in the publication of the wage index values for a number of specific Metropolitan Statistical Areas (MSAs). A description of those technical errors is included in the “Correction of Errors” section below. We note that correcting these technical errors is a purely administrative function that does not result in any change of policy or payment methodology.

II. Correction of Errors

In CMS-1360-N, FR Doc. 04-17444 of July 30, 2004 (69 FR 45721), make the following corrections:

A. On page 45734, remove Stanly, NC from Urban Area 1520 Charlotte-Gastonia-Rock Hill, NC-SC, because it has a rural designation instead of an urban designation. We note an error in the labeling of the wage index tables within the Inpatient Rehabilitation Facility Prospective Payment System (IRF PPS). That labeling error is the listing of Stanly County, NC as one of the urban areas under MSA 1520 when, in fact, we consider Stanly County, NC to be a rural area in North Carolina. Stanly County wage data have always been correctly treated as rural in the actual creation of the IRF wage index values, and it has only been the listing of Stanly County under MSA 1520 that was in error. Consequently, we are correcting our labeling error in the IRF PPS notice (CMS-1360-N), and have removed Stanly County from the list of areas that fall under the MSA 1520 wage index. Since this is strictly a labeling correction that does not affect the actual computation of the wage index values, IRFs in Stanly County, NC will continue to fall under, and use, the wage index for rural North Carolina.

B. On page 45746, remove the wage index of 0.0000 for Urban Area 4150 and in its place, add a wage index of 0.8677. This change is made due the inadvertent insertion of 0.0000 for MSA 4150 when it should have been 0.8677.

C. On page 45757, remove the wage index of 0.0000 for Urban Area 7000 and in its place, add a wage index of 0.9757. This change is made due to the inadvertent insertion of 0.0000 for MSA 7000 when it should have been 0.9757.

III. Waiver of Proposed Rulemaking and Delayed Effective Date

We ordinarily publish a notice of proposed rulemaking in the Federal Register to provide a period for public comment before the provisions of a regulation take effect. We can waive this procedure, however, if we find good cause that notice-and-comment procedure is impracticable, unnecessary, or contrary to the public interest and incorporate a statement of the finding and the reasons for it into the notice issued. 5 U.S.C. 553(b)(B). We can also waive the 30-day delayed effective date of the Administrative Procedure Act (5 U.S.C. 553(d)) when there is good cause to do so and we publish in the rule an explanation of our good cause.

We find it unnecessary to undertake notice-and-comment rulemaking because this correction notice merely provides technical corrections to the July 30, 2004 notice. This correction notice corrects inadvertent drafting errors (that is, a labeling error with respect to Stanley County and the insertion of incorrect wage indexes for MSA 4150 and MSA 7000). We are not making substantive changes in policy, but rather, are simply implementing correctly the payment methodology that we long ago proposed, received comment on, and subsequently finalized. Thus, because the public has already had the opportunity to comment on the payment methodology used to calculate the wage indexes, additional comment would be unnecessary.

In addition, publication of a substantive rule shall be made not less than 30 days before its effective date. We can waive this procedure, however, if we find good cause that a delayed effective date is impracticable, unnecessary, or contrary to the public interest. 5 U.S.C. 553(d)(3). We believe a delayed effective date is unnecessary because this correction notice merely corrects inadvertent technical mistakes (that is, a labeling error with respect to Stanley County and the insertion of incorrect numbers in the wage indexes for MSA 4150 and MSA 7000). Further, we believe imposing a 30-day delay in the effective date would be contrary to the public interest with respect to IRF providers in MSA 4150 and MSA 7000. As a matter of good public policy, the rates used in the IRF PPS should not be based on wage indexes that contain inadvertent errors that, if not corrected, would have very real impacts on the payments received by providers in MSA 4150 and MSA 7000. We believe that it is imperative that these providers receive appropriate IRF PPS payments and that failure to do so would be contrary to the public interest. Furthermore, the changes noted above do not make any substantive changes to the IRF PPS payment methodology or underlying payment policies. Therefore, we find good cause to waive the 30-day delayed effective date.

(Catalog of Federal Domestic Assistance Program No. 93.773, Medicare—Hospital Insurance; and Program No. 93.774, Medicare—Supplementary Medical Insurance Program.)
Dated: September 30, 2004.
Ann C. Agnew,
Executive Secretary to the Department.

[FR Doc. 04-22400 Filed 10-1-04; 11:46 am]

BILLING CODE 4120-01-P